DEPARTMENT OF HOMELAND SECURITY

Coast Guard

33 CFR Part 117

[Docket No. USCG-2012-0078]

Drawbridge Operation Regulation; Miami River, Miami, FL

AGENCY: Coast Guard, DHS.

ACTION: Notice of temporary deviation from regulation; request for comments.

SUMMARY: The Commander, Seventh Coast Guard District, has issued a temporary deviation from the regulation governing the operation of the N.W. 12th Avenue Bridge across the Miami River, mile 2.1, in Miami, Florida. This deviation will test a change to the drawbridge operation schedule to determine whether a permanent change to the schedule is needed. The test deviation is necessary to determine whether possible vehicle traffic congestion during Miami Marlins home baseball games poses a safety concern. This 90 day test deviation will allow the N.W. 12th Avenue Bridge to remain closed to navigation for a short period prior to the start of Miami Marlins home baseball games. Tugs and tugs with tows, public vessels of the United States, and vessels in distress shall be passed at any time.

DATES: This deviation is effective from 6:46 p.m. on April 4, 2012 through 7:30 p.m. on July 3, 2012.

Comments and related material must be received by the Coast Guard on or before August 1, 2012. Requests for public meetings must be received by the Coast Guard on or before May 15, 2012.

ADDRESSES: You may submit comments identified by docket number USCG-2012-0078 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this rule, call or email Michael Lieberum, Seventh District Bridge Branch, Coast Guard; telephone (305) 415-6744, email Michael.B.Lieberum@uscg.mil. If you have questions on viewing or submitting material to the docket, call Renee V. Wright, Program Manager, Docket Operations, telephone (202) 366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2012-0078), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, go to http://www.regulations.gov, click on the “submit a comment” box, which will then become highlighted in blue. In the “Keyword” box insert “USCG-2012-0078,” click “Search,” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2012-0078” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why one would be beneficial. If we determine that one would aid this rulemaking, we will hold one at a time and place announced by a later notice in the Federal Register.

Basis and Purpose

The legal basis for test deviations to drawbridge operating schedules is the Coast Guard's authority to regulate drawbridge operations: 33 U.S.C. 499; 33 CFR 1.05-1; Department of Homeland Security Delegation No. 0170.1.

The purpose of the test deviation is to determine whether the current drawbridge operation schedule meets the needs of navigation and land traffic.

Discussion

The Miami Marlins Organization has requested bridge opening limitations to the N.W. 12th Avenue Bridge over the Miami River mile 2.1, in Miami, Florida, in order to determine whether traffic congestion during Miami Marlins home baseball games poses a safety concern and whether a brief closure will mitigate such congestion. This 90 day test deviation will allow this bridge to remain closed to navigation from 6:46 p.m. until 7:30 p.m., Monday through Friday, during Miami Marlins home baseball games on April 4, 13, 17, 18, 19, 27, 30; May 11, 14, 15, 21, 22, 23, 24, 25, 28, 29, 30; June 5, 6, 7, 8, 11, 12, 13, 22, 25, 26, 27, and 29.

The N.W. 12th Avenue Bridge provides a vertical clearance of 22 feet above mean high water in the closed position, and a horizontal clearance of 150 feet. The normal operating schedule for the bridge is set forth in 33 CFR 117.305(b), which states that the draws of the S.W. First Street Bridge, mile 0.9, up to and including the N.W. 27th Avenue Bridge, mile 3.7 at Miami, shall open on signal; except that, from 7:35 a.m. to 8:59 a.m. and 4:45 p.m. to 5:59 p.m., Monday through Friday, except Federal holidays, the draws need not open for the passage of vessels.

This 90 day test deviation will be in effect from 6:46 p.m. on April 4, 2012 through 7:30 p.m. on July 3, 2012. Tugs and tugs with tows, public vessels of the United States, and vessels in distress shall be passed at any time.

In accordance with 33 CFR 117.35(e), the drawbridge must return to its regular operating schedule immediately at the end of the designated time period. This test deviation from the operating regulations is authorized under 33 CFR 117.35.

Dated: February 29, 2012.
B.L. Dragon,
Bridge Program Director, Seventh Coast Guard District.

[FR Doc. 2012-6982 Filed 3-22-12; 8:45 am]

BILLING CODE 9110-04-P